NATIONAL CAPITAL PLANNING COMMISSION

Public Comment Period on the Draft National Capital Urban Design and Security Plan

AGENCY: National Capital Planning Commission.

ACTION: Availability of the Draft National Capital Urban Design and Security Plan and opportunity for public comment.

SUMMARY: In response to the proliferation of hastily installed security barriers that are marring the appearance of Washington's Monumental Core, the National Capital Planning Commission has prepared a draft Urban Design and Security Plan to identify permanent, comprehensive security and streetscape improvements to be developed over the next three to five years. The plan proposes solutions for areas throughout the Monumental Core including Pennsylvania Avenue, the Federal Triangle, the National Mall, Independence and Constitution Avenues, the Lincoln and Jefferson Memorials, Downtown, the West End, and the Southwest Federal Center. The Commission is conducting a 60-day public comment period on the draft plan.

DATES: An information session that includes opportunity for public comment will be held on Wednesday, September 4, 2002 from 5:30 p.m. to 7:30 p.m.

ADDRESSES: The meeting will be held at the National Capital Planning Commission office, 401 9th Street, NW., North Lobby, Suite 500, Washington, DC 20576.

SUPPLEMENTARY INFORMATION: The draft plan is available on the Commission's Web site www.ncpc.gov. It is also available on CD from the Commission's offices at 401 9th Street, NW., North Lobby, Suite 500, Washington, DC 20576. Printed copies will be available upon request from July 26, 2002. Individuals interested in testifying at the public meetings should call the National Capital Planning Commission, 202-482-7200. Members of the public who wish to testify and have not signed up in advance may sign up at the meeting before the start of the session. Those testifying will be limited to three minutes for individuals and five minutes for organizations, and will generally be scheduled on a first-come basis. Written comments may be submitted before, during or after the public meeting. Comments may be mailed to the attention of Elizabeth Miller at the National Capital Planning Commission. Comments may also be sent by fax: 202-482-7272 or by e-mail: infor@ncpc.gov. All comments should be received by the end of the comment period, September 9, 2002.

FOR FURTHER INFORMATION CONTACT: Elizabeth Miller, 202-482-7246.

Dated: August 9, 2002.
Ash J. Jain,
Certifying Officer.

[FR Doc. 02-21066 Filed 8-19-02; 8:45 am]

BILLING CODE 7502-02-M